DEPARTMENT OF THE INTERIOR

Bureau of Indian Affairs

Proposed Agency Information Collection Activities; Comment Request

AGENCY: Bureau of Indian Affairs, Interior.

ACTION: Notice.

SUMMARY: The Bureau of Indian Affairs (BIA) is seeking comments in preparation for renewal of the Indian Child Welfare Annual Report form. The information collected will aid the BIA in fulfilling requirements of law. This renewal meets the requirements of the Paperwork Reduction Act of 1995.

DATES: Submit comments on or before January 14, 2005.

ADDRESSES: Written comments should be sent directly to Larry Blair, Bureau of Indian Affairs, Office of Tribal Services, Division of Human Services, 1951 Constitution Avenue, NW., Mail Stop 320-SIB, Washington, DC 20240.

FOR FURTHER INFORMATION CONTACT: Interested persons may obtain copies of the information collection requests without charge by contacting Mr. Larry Blair, (202) 513-7621, Facsimile number (202) 208-2648.

SUPPLEMENTARY INFORMATION:

I. Abstract

The information collection required by the use of this form is necessary to comply with Public Law 95-608, The Indian Child Welfare Act, and as codified in 25 CFR Part 23, Indian Child Welfare Act (ICWA). This information is collected through the use of a consolidated caseload form by tribal Indian Child Welfare Act program directors who are the providers of the ICWA services. The information is used to determine the extent of service needs in local Indian communities, assessment of the Indian Child Welfare Act program effectiveness, and to provide data for the annual program budget justification. The responses to this request for information collection are voluntary and the aggregated report is not considered confidential. The public is not required to respond unless a currently valid OMB control number is displayed.

II. Request for Comments

The Bureau of Indian Affairs requests your comments on this collection concerning:

(a) The necessity of this information collection for the proper performance of the functions of the agency, including whether the information will have practical utility;

(b) the accuracy of the agency's estimate of the burden (hours and cost) of the collection of information, including the validity of the methodology and assumptions used;

(c) ways we could enhance the quality, utility and clarity of the information to be collected; and

(d) ways we could minimize the burden of the collection of the information on the respondents, such as through the use of automated collection techniques or other forms of information technology.

Please note that an agency may not sponsor or request, and an individual need not respond to, a collection of information unless it has a valid OMB Control Number.

All comments received will be available for public review 2 weeks after publication in the Federal Register. If you wish to have your name and address withheld from review, please make that known at the start of your comments.

It is our policy to make all comments available to the public for review at the location listed in the ADDRESSES section, room 355-E, during the hours of 7 a.m. to 4 p.m., e.s.t., Monday through Friday except for legal holidays. All comments from organizations or representatives will be available for review. We may withhold comments from review for other reasons.

III. Data

Title: Department of the Interior, Bureau of Indian Affairs, Indian Child Welfare Act Annual Report, 25 CFR Part 23.4.

OMB Control Number: 1076-0131.

Type of review: Renewal.

Brief Description of collection: Indian tribes are required to collect selected data on Indian child welfare cases and submit them to the Bureau for consolidation. This data is useful on a local level, to the tribes and tribal organizations that collect it, for case management purposes and on a nationwide basis for planning and budget purposes.

Respondents: Indian tribes or tribal entities who are operating programs for Indian tribes.

Number of Respondents: 536.

Estimated Time per Response: 30 minutes.

Frequency of Response: Quarterly.

Estimated Annual Burden to Respondents: 1072 hours.

Dated: November 5, 2004.
David W. Anderson,
Assistant Secretary—Indian Affairs.

[FR Doc. 04-25266 Filed 11-12-04; 8:45 am]

BILLING CODE 4310-4J-P